DEPARTMENT OF THE INTERIOR

Bureau of Land Management

[LLNVL00000.L51010000.ER0000.LVRWF09F3450 241A; N-78803; 11-08807; MO#4500020763; TAS: 14X5017]

Notice of Extension of Public Comment Period for the Draft Environmental Impact Statement, Including a Draft Programmatic Agreement, for the Clark, Lincoln, and White Pine Counties Groundwater Development Project, Nevada

AGENCY: Bureau of Land Management, Interior.

ACTION: Notice of Extension.

SUMMARY: The Bureau of Land Management (BLM) is extending the public comment period for thirty (30) days on the Draft Environmental Impact Statement (EIS), including a Draft Programmatic Agreement, for the Southern Nevada Water Authority's (SNWA) proposed Clark, Lincoln, and White Pine Counties Groundwater Development Project. A notice published in the Federal Register on June 10, 2011 (76 FR 34097), provided for a 90-day public comment period ending on September 8, 2011.

DATES: Public comments on the Draft EIS and Draft Programmatic Agreement will now be accepted through October 11, 2011. Comments received or postmarked after October 11, 2011, will be considered to the extent practicable.

ADDRESSES: You may submit comments related to the Draft EIS or Draft Programmatic Agreement for the SNWA Project by any of the following methods:

• E-mail: nvgwprojects@blm.gov.

• Fax: (775) 861-6689.

• Mail: SNWA Project, Bureau of Land Management, Attn: Penny Woods, P.O. Box 12000, Reno Nevada 89520.

FOR FURTHER INFORMATION CONTACT: Penny Woods, Project Manager, telephone (775) 861-6466; address P.O. Box 12000, Reno, Nevada 89520; e-mail penny_woods@blm.gov. You also may visit the project Web site at http://www.blm.gov/5w5c.

SUPPLEMENTARY INFORMATION: The BLM received numerous requests from individuals and organizations to extend the comment period on the Draft EIS and Draft Programmatic Agreement. In response to those requests, the BLM is extending the public comment and review period 30 days, through October 11, 2011.

Authority: 40 CFR 1506.6, 40 CFR 1506.10.

Amy Lueders,
BLM Nevada Acting State Director.

[FR Doc. 2011-20490 Filed 8-11-11; 8:45 am]

BILLING CODE 4310-HC-P